ENVIRONMENTAL PROTECTION AGENCY

40 CFR Parts 49, 51, 52, 60, 70, and 71

[EPA-HQ-OAR-2013-0685; EPA-HQ-OAR-2010-0505; EPA-HQ-OAR-2014-0606; FRL-9933-15-OAR]

Source Determination for Certain Emission Units in the Oil and Natural Gas Sector; Oil and Natural Gas Sector: Emission Standards for New and Modified Sources; and Review of New Sources and Modifications in Indian Country: Federal Implementation Plan for Managing Air Emissions From True Minor Sources Engaged in Oil and Natural Gas Production in Indian Country

AGENCY: Environmental Protection Agency (EPA).

ACTION: Proposed rule; notice of public hearings.

SUMMARY: The Environmental Protection Agency (EPA) is announcing three public hearings to be held for three proposed rules titled, “Source Determination for Certain Emission Units in the Oil and Natural Gas Sector,” “Oil and Natural Gas Sector: Emission Standards for New and Modified Sources,” and “Review of New Sources and Modifications in Indian Country: Federal Implementation Plan for Managing Air Emissions from True Minor Sources Engaged in Oil and Natural Gas Production in Indian Country.” Two hearings will be held on September 23, 2015, simultaneously—one in Denver, CO, and one in Dallas, TX. One hearing will be on September 29, 2015, in Pittsburgh, PA.

DATES: Two public hearings will be held at different locations on September 23, 2015, and one public hearing will be held on September 29, 2015.

ADDRESSES: The September 23, 2015, Denver, CO, hearing will be held at the EPA, Region 8, 1595 Wynkoop Street, Denver, CO 80202. The September 23, 2015, Dallas, TX, hearing will be held at the Dallas City Hall, Council Chambers, 1500 Marilla Street, Dallas, TX 75201. The September 29, 2015, Pittsburgh, PA, hearing will be held at the William S. Moorhead Federal Building, 1000 Liberty Avenue, Pittsburgh, PA 15222. Identification is required at the Denver, CO, and Pittsburgh, PA, hearings because they are being held in federal facilities. If your driver's license is issued by American Samoa, Louisiana, Minnesota, New Hampshire or New York, you must present an additional form of identification to enter (see SUPPLEMENTARY INFORMATION for additional information on this location).

FOR FURTHER INFORMATION CONTACT: For information related to these public hearings, please contact Ms. Aimee St. Clair, Office of Air Quality Planning and Standards (E143-03), U.S. Environmental Protection Agency, by phone at (919) 541-1063, or by email at StClair.Aimee@epa.gov. To register to speak at these public hearings, please use the online registration form available at http://www.epa.gov/airquality/oilandgas/, no later than September 18, 2015, for the hearings in Denver, CO and Dallas, TX, and no later than September 25, 2015, for the hearing in Pittsburgh, PA.

For questions concerning the proposed rule titled, “Source Determination for Certain Emission Units in the Oil and Natural Gas Sector,” contact Ms. Cheryl Vetter, Office of Air Quality Planning and Standards, U.S. Environmental Protection Agency, by phone at (919) 541-4391, or by email at vetter.cheryl@epa.gov.

For questions concerning the proposed rule titled, “Oil and Natural Gas Sector: Emission Standards for New and Modified Sources,” contact Mr. Bruce Moore, Office of Air Quality Planning and Standards, U.S. Environmental Protection Agency, by phone at (919) 541-5460, or by email at moore.bruce@epa.gov.

For questions concerning the proposed rule titled, “Review of New Sources and Modifications in Indian Country: Federal Implementation Plan for Managing Air Emissions from True Minor Sources Engaged in Oil and Natural Gas Production in Indian Country,” contact Mr. Christopher Stoneman, Office of Air Quality Planning and Standards, U.S. Environmental Protection Agency, by phone at (919) 541-0823, or by email at stoneman.christopher@epa.gov.

SUPPLEMENTARY INFORMATION: The public hearings will be held to accept oral comments on all three proposed rulemakings listed in the summary section of this document. Commenters may choose to speak on one or more of the three proposed rulemakings.

All three hearings will begin at 9:00 a.m. and will conclude at 8:00 p.m. (local time). There will be a lunch break from 12:00 p.m. to 1:00 p.m. (local time) and a dinner break from 5:00 p.m. to 6:00 p.m. (local time). To register to speak at the hearings, please use the online registration form available at http://www.epa.gov/airquality/oilandgas/registration.html. For questions regarding registration, please contact Aimee St. Clair at (919) 541-1063. The last day to pre-register to speak at the Denver, CO, and Dallas, TX, hearings will be September 18, 2015. The last day to pre-register to speak at the Pittsburgh, PA, hearing will be September 23, 2015. Additionally, requests to speak will be taken the day of the hearings at the hearings registration desk, although preferences on speaking times may not be able to be fulfilled. Please note that registration requests received before the hearings will be confirmed by the EPA via email. We cannot guarantee that we can accommodate all timing requests and will provide requestors with the next available speaking time, in the event that their requested time is taken. Please note that the time outlined in the confirmation email will be the scheduled speaking time. Depending on the flow of the day, times may fluctuate. If you require the service of a translator or special accommodations such as audio description, we ask that you pre-register for the Denver, CO, and Dallas, TX, hearings no later than September 18, 2015, and the Pittsburgh, PA, hearing no later than September 23, 2015, as we may not be able to arrange such accommodations without advance notice. Please note that any updates made to any aspect of the hearing will be posted online at http://www.epa.gov/airquality/oilandgas/. While the EPA expects the hearings to go forward as set forth above, we ask that you monitor our Web site or contact Aimee St. Clair at (919) 541-1063 to determine if there are any updates to the information on the hearings. The EPA does not intend to publish a document in the Federal Register announcing any such updates.

Oral testimony will be limited to 5 minutes for each commenter. The EPA encourages commenters to provide the EPA with a copy of their oral testimony electronically (via email) before the hearings and in hard copy form at the hearings.

The hearings will provide interested parties the opportunity to present data, views, or arguments concerning the proposed actions. The EPA will make every effort to accommodate all speakers who wish to register to speak at the hearing venues on the day of the hearings. The EPA may ask clarifying questions during the oral presentations, but will not respond to the presentations at that time. Written statements and supporting information submitted during the comment period will be considered with the same weight as oral comments and supporting information presented at the public hearings. Verbatim transcripts of the hearings and written statements will be included in the dockets for each rulemaking. The EPA plans for the hearings to run on schedule; however, due to on-site schedule fluctuations, actual speaking times may shift slightly.

Because the Denver, CO, and Pittsburgh, PA, hearings are being held at United States government facilities, individuals planning to attend these hearings should be prepared to show valid picture identification to the security staff in order to gain access to the meeting room. Please note that the REAL ID Act, passed by Congress in 2005, established new requirements for entering federal facilities. If your driver's license is issued by American Samoa, Louisiana, Minnesota, New Hampshire or New York, you must present an additional form of identification to enter the federal building. Acceptable alternative forms of identification include: Federal employee badges, passports, enhanced driver's licenses, and military identification cards. For additional information for the status of your state regarding REAL ID, go to http://www.dhs.gov/real-id-enforcement-brief. In addition, you will need to obtain a property pass for any personal belongings you bring with you. Upon leaving the buildings, you will be required to return this property pass to the security desk. No large signs will be allowed in the buildings, cameras may only be used outside of the buildings, and demonstrations will not be allowed on federal property for security reasons.

At all of the hearing locations, atttendees will be asked to go through metal detectors. To help facilitate this process, please be advised that you will be asked to remove all items from all pockets and place them in provided bins for screening; remove laptops, phones, or other electronic devices from their carrying case and place in provided bins for screening; avoid shoes with metal shanks, toe guards, or supports as a part of their construction; remove any metal belts, metal belt buckles, large jewelry, watches; and follow the instructions of the guard if identified for secondary screening. Additionally, no weapons (e.g., pocket knives) or drugs or drug paraphernalia (e.g., marijuana) will be allowed in the buildings. We recommend that you arrive 20 minutes in advance of your speaking time in Denver, CO, Dallas, TX, and Pittsburgh, PA, to allow time to go through security and to check in with the registration desk.

How can I get copies of this document and other related information?

The EPA has established separate dockets for all three of the proposed rulemakings (available at http://www.regulations.gov). For the proposed rulemaking titled, “Source Determination for Certain Emission Units in the Oil and Natural Gas Sector,” the Docket ID No. is EPA-HQ-OAR-2013-0685. For the proposed rulemaking titled, “Oil and Natural Gas Sector: Emission Standards for New and Modified Sources,” the Docket ID No. is EPA-HQ-OAR-2010-0505. For the proposed rulemaking titled, “Review of New Sources and Modifications in Indian Country: Federal Implementation Plan for Managing Air Emissions from True Minor Sources Engaged in Oil and Natural Gas Production in Indian Country,” the Docket ID No. is EPA-HQ-OAR-2014-0606. All three proposed rulemakings are posted at http://www.epa.gov/airquality/oilandgas/actions.html. If you need assistance in accessing any information related to these rulemakings, please contact Ms. Aimee St. Clair, Office of Air Quality Planning and Standards, U.S. Environmental Protection Agency, by phone at (919) 541-1063, or by email at StClair.Aimee@epa.gov.

Dated: August 21, 2015.
Mary E. Henigin,
Acting Director, Office of Air Quality Planning and Standards.

[FR Doc. 2015-21255 Filed 8-26-15; 8:45 am]

BILLING CODE 6560-50-P